DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Stormready®, Stormready/Tsunamiready™, and Stormready® Supporter Application Forms.

OMB Control Number: 0648-0419.

Form Number(s): NA.

Type of Request: Regular submission (revision of a current information collection).

Number of Respondents: 265.

Average Hours per Response: StormReady, Tsunami-Ready and StormReady/TsunamiReady applications, 2 hours; StormReady Supporter applications, 1 hour.

Burden Hours: 565.

Needs and Uses: This request is for revision of a current information collection. The StormReady, TsunamiReady and and StormReady/TsunamiReady Programs are voluntary programs offered to provide guidance and incentive to officials who wish to improve their hazardous weather operations, e.g. community preparedness and local warning dissemination. Applicants fill out a detailed application that demonstrates how they meet certain guidelines that qualify them for StormReady recognition.

The full StormReady recognition is not appropriate for all entities, yet they should still be recognized for their efforts in preparing for hazardous weather. To this end, the National Weather Service has created the StormReady Supporter Program and is the revision to this information collection. StormReady Supporter is a voluntary program offered to provide guidance and incentive to entities, such as local hospitals or businesses, who wish to improve their respective hazardous weather preparations. Entities will use the application to apply for a one-time StormReady Supporter recognition. The government will use the application form to determine whether an entity has met the guidelines for a StormReady Supporter recognition.

Affected Public: Business or other for-profit organizations.

Frequency: One time only.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue NW., Washington, DC 20230 (or via the Internet at dHynek@doc.gov).

Written comments and recommendations for the proposed information collection should be sent within 30 days of publication of this notice to OIRA_Submission@omb.eop.gov.

Dated: October 25, 2011.
Gwellnar Banks,
Management Analyst, Office of the Chief Information Officer.

[FR Doc. 2011-27906 Filed 10-27-11; 8:45 am]

BILLING CODE 3510-KE-P